INTERNATIONAL TRADE COMMISSION

[Investigation No. 731-TA-653 (Second Review)]

Sebacic Acid From China

Determination

On the basis of the record ¹ developed in the subject five-year review, the United States International Trade Commission (Commission) determines, pursuant to section 751(c) of the Tariff Act of 1930 (19 U.S.C. 1675(c)) (the Act), that revocation of the antidumping duty order on sebacic acid from China would not be likely to lead to continuation or recurrence of material injury to an industry in the United States within a reasonably foreseeable time.

¹ The record is defined in § 207.2(f) of the Commission's Rules of Practice and Procedure (19 CFR 207.2(f)).

Background

The Commission instituted this review on April 1, 2004 (69 FR 17233) and determined on July 6, 2004 that it would conduct a full review (69 FR 45075, July 28, 2004). Notice of the scheduling of the Commission's review and of a public hearing to be held in connection therewith was given by posting copies of the notice in the Office of the Secretary, U.S. International Trade Commission, Washington, DC, and by publishing the notice in the Federal Register on July 28, 2004 (69 FR 45075). Notice of cancellation of the public hearing scheduled in connection with this review (due to lack of interest) was published in the Federal Register on December 7, 2004 (69 FR 70705). Notice of the revised scheduling of the review was published in the Federal Register on January 28, 2005 (70 FR 4150).

The Commission transmitted its determination in this review to the Secretary of Commerce on May 11, 2005. The views of the Commission are contained in USITC Publication 3775 (May 2005), entitled Sebacic Acid from China: Investigation No. 731-TA-653 (Second Review).

Issued: May 11, 2005.
By order of the Commission.
Marilyn R. Abbott,
Secretary to the Commission.

[FR Doc. 05-9839 Filed 5-17-05; 8:45 am]

BILLING CODE 7020-02-P